DEPARTMENT OF ENERGY

Federal Energy Regulatory Commission

[Docket No. RP04-433-000]

Dominion Transmission, Inc.; Notice of Proposed Changes in FERC Gas Tariff

August 4, 2004.

Take notice that on August 2, 2004, Dominion Transmission, Inc. (DTI) tendered for filing as part of its FERC Gas Tariff, Third Revised Volume No. 1, the following tariff sheets, to become effective September 1, 2004:

First Revised Sheet No. 304

First Revised Sheet No. 307

First Revised Sheet No. 353

First Revised Sheet No. 357

First Revised Sheet No. 604

Second Revised Sheet No. 680

First Revised Sheet No. 684

Fifth Revised Sheet No. 1000

First Revised Sheet No. 1048

First Revised Sheet No. 1065

First Revised Sheet No. 1074

Third Revised Sheet No. 1076

First Revised Sheet No. 1078

First Revised Sheet No. 1081

Second Revised Sheet No. 1092

Third Revised Sheet No. 1093

Second Revised Sheet No. 1097

First Revised Sheet No. 1108

First Revised Sheet No. 1127

First Revised Sheet No. 1131

First Revised Sheet No. 1155A

Second Revised Sheet No. 1162

Third Revised Sheet No. 1419

Second Revised Sheet No. 1502

Third Revised Sheet No. 2003

Second Revised Sheet No. 2052

Second Revised Sheet No. 2102

Second Revised Sheet No. 2153

Third Revised Sheet No. 2203

Second Revised Sheet No. 2252

Fourth Revised Sheet No. 2304

Second Revised Sheet No. 2352

Second Revised Sheet No. 2403

Second Revised Sheet No. 2453

Third Revised Sheet No. 2506

DTI states that the purpose of this filing is to revise the tariff to correct typographical errors, update addresses and phone numbers, remove language that is no longer applicable, update language pertaining to the standards of conduct, and other miscellaneous changes which are detailed in Appendix A of the filing.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1779 Filed 8-10-04; 8:45 am]

BILLING CODE 6717-01-P